DEPARTMENT OF STATE

[Delegation of Authority No. 236-6]

Re-Delegation of Authority Section 102 of the Mutual Educational and Cultural Exchange Act of 1961, As Amended

By virtue of the authority vested in me as the Assistant Secretary of State for Educational and Cultural Affairs, including by Delegation of Authority No 236-3 (August 28, 2000), and to the extent permitted by law, I hereby re-delegate to the Deputy Assistant Secretary for Policy, Bureau of Educational and Cultural Affairs, the functions in section 102 of the Mutual Educational and Cultural Exchange Act of 1961, as amended (22 U.S.C. 2452) relating to the provision by grant, contract or otherwise for a wide variety of educational and cultural exchanges.

Notwithstanding this re-delegation, the Secretary, the Deputy Secretaries, the Under Secretary for Public Diplomacy and Public Affairs, the Assistant Secretary for Educational and Cultural Affairs, and the Principal Deputy Assistant Secretary for Educational and Cultural Affairs may at any time exercise the function delegated herein.

Any reference in this Delegation of Authority to any statute or delegation of authority shall be deemed to be a reference to such statute or delegation of authority as amended from time to time. Delegation of Authority 236-4 remains in effect until revoked.

This Delegation of Authority shall expire on January 5, 2016.

This Delegation shall be published in the Federal Register.

Dated: December 11, 2015.
Evan Ryan,
Assistant Secretary for Educational and Cultural Affairs, U.S. Department of State.

[FR Doc. 2015-32486 Filed 12-23-15; 8:45 am]

BILLING CODE 4710-05-P